DEPARTMENT OF ENERGY

Federal Energy Regulatory Commission

[Project No. 13-042]

Green Island Power Authority; Albany Engineering Corporation; Notice of Application for Partial Transfer of License and Soliciting Comments, Motions To Intervene, and Protests

On October 21, 2022, Green Island Power Authority (transferor) and Albany Engineering Corporation (transferee) co-licensees for the Green Island Hydroelectric Project No. 13, filed jointly an application for a partial transfer of license. The project is located at the U.S. Army Corps of Engineers (Corps) Green Island-Troy Lock and Dam on the Hudson River, in Albany County, New York. The project occupies federal land under the jurisdiction of the Corps.¹

¹ Green Island Power Authority, 140 FERC ¶ 62,133 (2012).

The applicants seek Commission approval to partially transfer the license for the Green Island Hydroelectric Project from the Green Island Power Authority and Albany Engineering Power Corporation as co-licensees to Albany Engineering Corporation as the sole licensee.

Applicants Contact: For the transferor: Ms. Kristin Swinton, Green Island Power Authority, 69 Hudson Avenue, Green Island, NY 12183, Phone: (518) 271-9397, Email: kristin@greenislandpowerauthority.com.

For the transferee: Mr. James A. Besha, P.E., and Ms. Wendy Jo Carey, P.E., Albany Engineering Corporation, 5 Washington Square, Albany, NY 12205, Phone: (518) 456-7712, Emails: jim@albanyengineering.com wendy@albanyengineering.com.

FERC Contact: Anumzziatta Purchiaroni, Phone: (202) 502-6191, Email: Anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include docket number P-13-042. Comments emailed to Commission staff are not considered part of the Commission record.

Dated: December 1, 2022.
Kimberly D. Bose,
Secretary.

[FR Doc. 2022-26842 Filed 12-8-22; 8:45 am]

BILLING CODE 6717-01-P